DEPARTMENT OF THE INTERIOR

Office of the Secretary

Privacy Act of 1974, Amendment of an Existing System of Records

AGENCY: Office of the Secretary, Interior.

ACTION: Proposed Amendment of an Existing System of Records.

SUMMARY: In accordance with the Privacy Act of 1974, as amended (5 U.S.C. 552a), the Office of the Secretary of the Department of the Interior is issuing public notice of its intent to amend an existing Privacy Act system of records notice, Interior, DOI-18, “Discrimination Complaints.” The revisions will update the system name, addresses of the system locations and system managers, the categories of individuals covered by the system statement, the routine uses of the records, and the storage, retrievability, and safeguards statements.

DATE: Comments must be received by May 19, 2008.

FOR FURTHER INFORMATION CONTACT: Any persons interested in commenting on this proposed amendment may do so by submitting comments in writing to Ms. Sue Ellen Sloca, Privacy Act Officer, Office of the Secretary, Department of the Interior, 1951 Constitution Avenue NW., MS 116 SIB, Washington, DC 20240 or by e-mail to sue_ellen_sloca@nbc.gov.

SUPPLEMENTARY INFORMATION: Interior, DOI-18 is being amended to more accurately describe the Department-wide scope of the system of records; to add sexual orientation and status as a parent to the list of discrimination factors in the categories of individuals covered by the system statement; to update the storage, retrievability and safeguards statements to reflect changes that have occurred since the system notice was last published; to update the list of routine uses of records maintained in the system to disclose records to the following entities for the following purposes: to other federal agencies to reconcile or reconstruct data files, to governmental organizations when relevant to the hiring, etc., of an employee or contractor or to provide information in response to a court order, to the National Archives and Records Administration to conduct records management inspections, to an expert, consultant or contractor to perform services requiring access to the records, to individuals involved in responding to a breach of Federal data, to the Office of Management and Budget in connection with legislative affairs as mandated by OMB Circular A-19, to the Treasury Department to recover debts owed to the Government, and to the news media when the disclosure is compatible with the purpose for which the records were compiled; to update the addresses of the system locations and system managers; and to change the name of the system from Interior, DOI-18, “Discrimination Complaints” to Interior, DOI-18, “Civil Rights Complaints and Compliance Review Files.” These amendments will be effective as proposed at the end of the comment period unless comments are received which would require a contrary determination. The Department will publish a revised notice if changes are made based upon a review of comments received.

Dated: April 1, 2008.
Sharon D. Eller,
Director, Office of Civil Rights.

INTERIOR/DOI-18

SYSTEM NAME:

Interior, DOI-18, “Civil Rights Complaints and Compliance Review Files”.

SYSTEM LOCATION:

(1) Office of Civil Rights, 1849 C Street, NW., Mail Stop 5230 MIB, Washington, DC 20240.

(2) Bureau of Land Management, Equal Employment Opportunity Group, 1120 20th Street, NW., 3rd Floor, Washington, DC 20036.

(3) Bureau of Reclamation, Diversity and Equal Opportunity, P.O. Box 25007, D-4700, Denver, Colorado 80225-0007.

(4) U.S. Geological Survey, Office of Equal Opportunity, 12201 Sunrise Valley Drive, 602 National Center, Reston, Virginia 22092.

(5) National Park Service, Equal Employment Opportunity, 1201 I Street, NW., Org Code 2652, Washington, DC 20005.

(6) U.S. Fish and Wildlife Service, Office of Diversity and Civil Rights, 4501 N. Fairfax Drive, Diversity and Civil Rights Office (2nd Floor) and the Division of Federal Assistance (4th Floor), Arlington, Virginia 22203.

(7) Minerals Management Service, Equal Employment and Development Opportunity, 381 Elden Street, MS 2900, Herndon, Virginia 20170.

(8) Office of Surface Mining Reclamation and Enforcement, Office for Equal Opportunity, 1951 Constitution Avenue NW., Room 138-SIB, Washington, DC 20240.

(9) Bureau of Indian Affairs, Equal Employment Opportunity Programs, 2051 Mercator Drive, Reston, Virginia 20191.

CATEGORIES OF INDIVIDUALS COVERED BY THE SYSTEM:

Individuals who claim to have been discriminated against on the basis of race, color, sex, religion, national origin, disability, age, status as a parent, and sexual orientation in violation of various statutes and regulations including Title VI and Title VII of the Civil Rights Act of 1964, as amended (42 U.S.C. 2000d and 42 U.S.C. 2000e, et seq); Section 501, Section 504 and Section 508 of the Rehabilitation Act of 1973, as amended (29 U.S.C. 791, et seq) and its implementing regulations; the Age Discrimination in Employment Act of 1967, as amended (29 U.S.C. 794, et seq) and its implementing regulations; the Age Discrimination in Employment Act of 1967, as amended (29 U.S.C. 621, et seq); Title IX of the Education Amendments of 1972 (Pub. L. 92-318); Section 403 of the Trans-Alaska Pipeline Authorization Act (Pub. L. 93-153.87 Stat. 576); the Americans with Disabilities Act of 1990 (Pub. L. 101-336); the Age Discrimination Act of 1975 (29 U.S.C. 621); the Architectural Barriers Act of 1968 (Pub. L. 90-480); the Civil Rights Restoration Act of 1987 (Pub. L. 100-259); the Civil Rights Act of 1991 (Pub. L. 102-166); the Health Insurance Portability and Accountability Act of 1996 (Pub. L. 104-191); Department of the Interior Regulations at 43 CFR Parts 17 and 41; Presidential Executive Orders 12898, 13160, 13166, 13152, and 13145; and Departmental Manual 373 DM 8, dated July 1, 2005, subject: Procedures for Processing Complaints under Executive Order 13160, and 373 DM 7, dated December 1, 1998, subject: Equal Opportunity Procedures for Processing Complaints of Discrimination Based on Sexual Orientation.

CATEGORIES OF RECORDS IN THE SYSTEM:

(1) Complaints of discrimination; reports of complaints investigation and supplementary documentary evidence; correspondence, including requests for information from other Federal agencies, and from minority, civil rights, women's and community organizations; documents obtained from recipients of permits, rights-of-way, public land orders, or other Federal authorizations, and their agents, contractors, and subcontractors, under the Trans-Alaska Pipeline Authorization Act (Pub L. 93-153, 87 Stat. 576); and relevant statistical data obtained from various sources.

(2) Systemic civil rights compliance reviews of recipients of Federal assistance; information on recipient employees, contractors or education instructor volunteers as contained in documents provided by recipients; medical information; eligibility determinations impacting complainants, witnesses or other parties; administrative subpoena files; staff interviews, self-evaluation plans; records of physical or mental impairments; racial/ethnic analyses of workforces and program enrollees; sanction hearings; notice of violations; language assistance plans; recipient staff interviews and interviews with members of the public; appeal files; training programs; civil enforcement files; environmental policies and program files.

(3) Any and all information contained on private individuals as described in number 2 above, contained in records of accessibility or other civil rights reviews pertaining to facilities owned and operated by the Department of the Interior and its bureaus.

AUTHORITY FOR MAINTENANCE OF THE SYSTEM:

Title VI and Title VII of the Civil Rights Act of 1964, as amended (42 U.S.C. 2000d and 42 U.S.C. 2000e, et seq); Section 501, Section 504 and Section 508 of the Rehabilitation Act of 1973, as amended (29 U.S.C. 791, et seq) and its implementing regulations; the Age Discrimination in Employment Act of 1967, as amended (29 U.S.C. 794, et seq) and its implementing regulations; the Age Discrimination in Employment Act of 1967, as amended (29 U.S.C. 621, et seq); Title IX of the Education Amendments of 1972 (Pub. L. 92-318); Section 403 of the Trans-Alaska Pipeline Authorization Act (Pub. L. 93-153.87 Stat. 576); the Americans with Disabilities Act of 1990 (Pub. L. 101-336); the Age Discrimination Act of 1975 (29 U.S.C. 621); the Architectural Barriers Act of 1968 (Pub. L. 90-480); the Civil Rights Restoration Act of 1987 (Pub. L. 100-259); the Civil Rights Act of 1991 (Pub. L. 102-166); the Health Insurance Portability and Accountability Act of 1196 (Pub. L. 104-191); and Department of the Interior Regulations at 43 CFR Parts 17 and 41; Presidential Executive Orders 12898, 13160, 13166, 13152 and 13145; 373 DM 8, dated July 1, 2005, and 373 DM 7, dated December 1, 1998.

ROUTINE USE OF RECORDS MAINTAINED IN THE SYSTEM, INCLUDING CATEGORIES OF USERS AND THE PURPOSES OF SUCH USES:

The primary purpose of the system is:

(1) To investigate and resolve complaints of discrimination, related to both employment civil rights and public civil rights.

(2) To compile statistical information on complaints of discrimination.

(3) To conduct systemic civil rights compliance reviews of recipients of Federal assistance.

(4) To conduct accessibility and other civil rights related evaluations of Department of the Interior facilities.

Disclosures outside the Department of the Interior may be made:

(1) To other Federal agencies charged with the enforcement of equal employment opportunity laws, orders and regulations, on a need-to-know basis to assist these agencies in their enforcement activities.

(2) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(3) To any criminal, civil, or regulatory law enforcement authority (whether federal, state, territorial, local, tribal or foreign) when a record, either alone or in conjunction with other information, indicates a violation or potential violation of law—criminal, civil, or regulatory in nature, and the disclosure is compatible with the purpose for which the records were compiled.

(4) To a congressional office in response to a written inquiry that an individual covered by the system, or the heir of such individual if the covered individual is deceased, has made to the office.

(5) To an official of another federal agency to provide information needed in the performance of official duties related to reconciling or reconstructing data files or to enable that agency to respond to an inquiry by the individual to whom the record pertains.

(6) To federal, state, territorial, local, tribal, or foreign agencies that have requested information relevant or necessary to the hiring, firing or retention of an employee or contractor, or the issuance of a security clearance, license, contract, grant or other benefit, when the disclosure is compatible with the purpose for which the records were compiled.

(7) To representatives of the National Archives and Records Administration to conduct records management inspections under the authority of 44 U.S.C. 2904 and 2906.

(8) To state and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To the news media when the disclosure is compatible with the purpose for which the records were compiled.

DISCLOSURE TO CONSUMER REPORTING AGENCIES:

Pursuant to 5 U.S.C. 552a(b)(12), records can be disclosed to consumer reporting agencies as they are defined in the Fair Credit Reporting Act.

POLICIES AND PRACTICES FOR STORING, RETRIEVING, ACCESSING, RETAINING, AND DISPOSING OF RECORDS IN THE SYSTEM:

STORAGE:

Within the Departmental office, manual records are stored in file folders in an Aisle Saver System manual storage system. An automated complaints management information system is used to manage and track the processing of complaints.

RETRIEVABILITY:

Records are retrieved by name and employing bureau of individuals filing complaints, docket control number of complaints, and other appropriate data fields.

SAFEGUARDS:

Access to records covered by the system will be permitted only to authorized personnel on a need-to-know basis in accordance with requirements found in the Departmental Privacy Act regulations (43 CFR 2.51). Records are maintained in accordance with safeguards meeting the requirements of the Privacy Act of 1974, as amended (5 U.S.C. 552a) and Departmental regulations (43 CFR part 2, subpart D). Standards for the maintenance of records subject to the Privacy Act are described in Departmental regulations (43 CFR 2.48) and involve the content of the records, data collection practices, and the use, safeguarding, and disposal of personal information in the records. Automated records are maintained in conformance with safeguards based on recommendations of the National Bureau of Standards contained in “Computer Security Guidelines for Implementing the Privacy Act of 1974” (FIPS Pub.41, May 30, 1975). They are protected through user identification, passwords, database permissions, and software controls. Such security measures establish different degrees of access levels for different types of users. A Privacy Impact Assessment was completed to ensure that Privacy Act requirements and personally identifiable information safeguard requirements are met. Within the Departmental office, manual records are stored in a locked Aisle Saver System (file unit) in a room locked with an off-master key. Within bureau offices, manual records are maintained with appropriate administrative, technical, and physical safeguards to insure their security and confidentiality. In all offices where records are handled, posted warning signs remind employees of access limitations, standards of conduct for employees handling Privacy Act records, and possible criminal penalties for violation of security regulations.

RETENTION AND DISPOSITION:

Records are retained and disposed of in compliance with the National Archives and Records Administration's General Records Schedule No. 1, Item No. 26.

SYSTEM MANAGER(S) AND ADDRESSES:

(1) Director, Office of Civil Rights, U.S. Department of the Interior, 1849 C Street, NW., MS-5221 MIB, Washington, DC 20240: For all discrimination complaints, accessibility reviews and civil rights compliance reviews covered by the authorities listed above under “Categories of Individuals Covered by the System.”

(2) Director, Alaska State Office, Bureau of Land Management, 222 West 7th Avenue, #13, Anchorage, Alaska 99513: For complaints arising under section 493 of the Trans-Alaska Pipeline Authorization Act (Pub. L. 93-153, 87 Stat. 576).

(3) Associate Solicitor, Division of General Law, Office of the Solicitor, U.S. Department of the Interior, 1849 C Street, NW., MS-6530 MIB, Washington, DC 20240: For complaints of discrimination arising under Title VII of the Civil Rights of 1964, as amended (42 U.S.C. 2000e) and related employment-related civil rights laws and regulations, where the complaints are filed against the Departmental Office of Civil Rights.

NOTIFICATION PROCEDURES:

Inquiries regarding the existence of records shall be addressed to the appropriate System Manager. The request must be in writing, signed by the requester, and meet the content requirements of 43 CFR 2.60.

RECORD ACCESS PROCEDURES:

A request for access to records shall be addressed to the appropriate System Manager. The request must be in writing, signed by the requester, and meet the content requirements of 43 CFR 2.63.

CONTESTING RECORDS PROCEDURES:

A request for an amendment of records shall be addressed to the appropriate System Manager. The request must be in writing, signed by the requester, and meet the content requirements of 43 CFR 2.71.

RECORD SOURCE CATEGORIES:

Complainants; recipients of permits, rights-of-way, public land orders, or other Federal authorizations, and their agents, contractors, subcontractors, and employees under section 403 of the Trans-Alaska Pipeline Authorization Act (87 Stat. 576); administrators and recipients of Government funds from programs administered by the Department of the Interior; Federal, State, and local government agencies; community, minority, civil rights, and women's organizations; unions; Members of Congress and their staffs; bureaus and offices of the Department of the Interior; and confidential informants, to the extent they possess relevant data otherwise unavailable.

EXEMPTIONS CLAIMED FOR THE SYSTEM:

None.

[FR Doc. E8-7273 Filed 4-7-08; 8:45 am]

BILLING CODE 4310-RE-P